DEPARTMENT OF THE INTERIOR

Bureau of Land Management

[CO-154-1610-DQ-GGCA]

Notice of Availability of Record of Decision for the Gunnison Gorge National Conservation Area Resource Management Plan (RMP)/Environmental Impact Statement (EIS)

AGENCY: Bureau of Land Management, Interior.

ACTION: Notice of availability of Record of Decision (ROD).

SUMMARY: In accordance with the National Environmental Policy Act (NEPA), the Federal Land Policy and Management Act (FLPMA), and the Bureau of Land Management (BLM) management policies, the Black Canyon of the Gunnison National Park and Gunnison Gorge National Conservation Area Act of 1999 and the Black Canyon of the Gunnison Boundary Revision Act of 2003, the BLM announces the availability of the RMP/ROD for the Gunnison Gorge National Conservation Area (NCA) located in Montrose and Delta Counties, Colorado. The Colorado State Director will sign the RMP/ROD, which becomes effective immediately.

ADDRESSES: Copies of the NCA RMP/ROD are available upon request from the Field Manager, Uncompahgre Field Office, Bureau of Land Management, 2505 S. Townsend Avenue, Montrose, Colorado or via the Internet at http://www.gunnison-gorge-eis.com. Copies may also be obtained by calling Bill Bottomly, Gunnison Gorge NCA (970) 240-5337. Copies have also been sent to the following local libraries.

Montrose Public Library, 320 South 2nd Street, Montrose, CO 81401.

Delta Public Library, 211 West 6th Street, Delta, CO 81416.

Crawford Public Library, 425 Highway 92, Crawford, CO 81415.

Hotchkiss Public Library, 1st and Main Street, Hotchkiss, CO 81419.

FOR FURTHER INFORMATION CONTACT: Karen Tucker, Manager, Gunnison Gorge NCA, 2465 S. Townsend Avenue, Montrose, CO (970) 240-5309, karen_tucker@co.blm.gov, or Bill Bottomly, Land Use Planner, Gunnison Gorge NCA, 2465 S. Townsend Avenue, Montrose, CO (970) 240-5337, bill_bottomly@co.blm.gov.

SUPPLEMENTARY INFORMATION: The Gunnison Gorge NCA RMP/ROD was developed with broad public participation through a two-year collaborative planning process. This RMP/ROD addresses management on approximately 95,780 acres of public land in the planning area. The Gunnison Gorge NCA RMP/ROD is designed to achieve or maintain desired future conditions developed through the planning process. It includes a series of management actions to meet the desired resource conditions for upland and riparian vegetation, wildlife habitats, cultural and visual resources, livestock grazing, recreation, wilderness management, and special status species and habitat.

The approved Gunnison Gorge NCA RMP is essentially the same as the Proposed Gunnison Gorge NCA RMP/Final Environmental Impact Statement (PRMP/FEIS), published on January 23, 2004. BLM received 32 protests to the PRMP/FEIS. No inconsistencies with State or local plans, policies, or programs were identified during the Governor's consistency review of the PRMP/FEIS. As a result, only minor editorial modifications were made in preparing the RMP/ROD. These modifications corrected errors that were noted during review of the PRMP/FEIS and provide further clarification for some of the decisions. An errata sheet is included with the RMP/ROD that identifies the location of the corrections in the PRMP/FEIS.

Dated: April 28, 2004.
Doug Koza,
Associate State Director.

Editorial Note: This document was received at the Office of the Federal Register on November 4, 2004.

[FR Doc. 04-24904 Filed 11-10-04; 8:45 am]

BILLING CODE 4310-JB-P